ENVIRONMENTAL PROTECTION AGENCY

[ER-FRL-6662-9]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167. An explanation of the ratings assigned to draft environmental impact statements (EISs) was published in the Federal Register dated April 1, 2005 (70 FR 16815).

Draft EISs

EIS No. 20050006, ERP No. D1-FHW-H40397-MO, Interstate 70 Corridor Improvements, Section of Independent Utility #4, from Missouri Route BB Interchange to Eastern Columbia, Funding, Boone County, MO.

Summary: EPA has no objections to the proposed project.

Rating LO

EIS No. 20040520, ERP No. D-DOE-J39033-UT, Moab Uranium Mill Trailings Remediation, Proposal To Clean Up Surface Contamination and Implement a Ground Water Strategy, Grand and San Juan Counties, UT.

Summary: EPA rated the on-site alternative environmentally unsatisfactory because it would result in continuing exceedances of water quality criteria and it may not provide long-term pile stability. EPA has environmental objections to the White Mesa Mill site based on potential inconsistency with Utah's ground water protection standards. EPA has environmental concerns for the two other alternatives regarding transportation of the tailings to the site and cap design.

Rating EU2

EIS No. 20040569, ERP No. D-NRC-D03004-VA, Early Site Permit (ESP at the North Anna Power Station ESP Site (TAC No. MC1128), Construction and Operation, NUREG-1811, Louisa County, VA.

Summary: EPA has environmental concerns based on the lack of information on wetland and stream impacts, the impact on the water resource and the affects on the downstream communities.

Rating EC2

EIS No. 20050018, ERP No. D-FAA-F51050-IL, O'Hare Modernization Program, Proposes Major Development, Chicago O'Hare International Airport, Airport Layout Plan (ALP), Federal Funding, U.S. Army COE Section 404 Permit, City of Chicago, IL.

Summary: EPA expressed concerns related to air quality (criteria pollutants and hazardous air pollutants), wetlands, stormwater, noise, and environmental justice. EPA recommended additional analysis for air (general conformity and fine particulate matter (PM2.5)), noise mitigation options, and environmental justice. EPA recommended that the final EIS contain mitigation commitments for: increased mitigation ratios for wooded wetlands, noise mitigation, specific air mitigation measures targeting diesel emissions during construction and operation and hazardous air pollutants associated with aircraft idling and taxiing.

Rating EC2

EIS No. 20050021, ERP No. D-NRC-F06025-WI, GENERIC—License Renewal for Point Beach Nuclear Plant, Units 1 and 2, Supplement 23 to NUREG-1437 (TAC Nos. MC2049 and MC2050), Lake Michigan,Manitowoc County, WI.

Summary: EPA has environmental concerns regarding the adequacy and presentation of the radiological impacts and risk estimates and entrainment of fish and shellfish. In addition, impacts to ground water, especially with respect to on-site drinking water wells, are not discussed.

Rating EC2

EIS No. 20050050, ERP No. D-COE-D39028-00, TIER 1-DEIS Baltimore Harbor and Channel Dredged Material Management Plan (DMMP), To Analyze Dredged Material Placement, Port of Baltimore, Chesapeake Bay, MD, PA, DE, WV, VA, DC, and NY.

Summary: EPA had no objections to the “no action” alternative (i.e., the continued use of Open Water Placement in Virginia and the optimized use of existing dredged material management sites) and the new Alternative proposing beneficial uses of dredged materials (i.e., wetlands restoration in Dorchester County, MD). EPA expressed environmental concerns over the remaining three alternatives (i.e., the proposed multiple new Confined Disposal Facilities in the Patapsco River, the Poplar Island Environmental Restoration Project expansion and the Large Island Restoration Middle Bay). EPA recommended that continued use of Open Water Placement in Virginia include the already designated Norfolk Ocean Disposal Site given its available capacity.

Rating EC1

EIS No. 20050053, ERP No. D-CGD-E03013-00, Compass Port and Deepwater Port License Application, To Construct a Liquefied Natural Gas (LNG) Receiving, Storage and Regasification Facility, Proposed Offshore Pipeline and Fabrication Site, NPDES Permit, U.S. Army COE Section 10 and 404 Permits, Mobile County, AL and San Patricio and Nueces County, TX.

Summary: EPA expressed objections to the open loop re-gasification system due to immediate and cumulative adverse impacts to eastern Gulf waters and habitat. EPA requested additional information that is necessary for the federal Prevention of Significant Deterioration and National Pollutant Discharge Elimination System permits required for this Deep Water Port.

Rating EO2

EIS No. 20050082, ERP No. D-FRC-J03001-CO, Entrega Pipeline Project, Construction and Operation New Interstate Natural Gas Pipeline System, Right-of-Way Grant Issue by BLM, Meeker Hub and Cheyenne Hub, Rio Blanco and Weld Counties, CO, and Sweetwater County, WY.

Summary: EPA expressed concerns regarding the environmental impacts of additional natural gas development in the Piceance and Uinta basins to wildlife, water and air quality. EPA also recommended that other connected actions to the project and other projects that will be induced by the new pipeline be reviewed in the EIS.

Rating EC2

EIS No. 20050091, ERP No. D-FRC-G03026-00, Golden Pass Liquefied Natural Gas (LNG) Import Terminal and Natural Gas Pipeline Facilities, Construction and Operation, Jefferson, Orange, Newton Counties, TX and Calcasieu Parish, LA.

Summary: EPA expressed environmental concerns and requested additional information regarding alternatives, invasive species, air quality impacts and Clean Air Act conformity.

Rating EC2.Final EISs

EIS No. 20050071, ERP No. F-FHW-F40394-MI, I-94/Rehabilitation Project, Transportation Improvements to a 6.7 mile portion of I-94 from east I-96 west and to Conner Avenue on the east end, Funding and NPDES Permit, City of Detroit, Wayne County, MI.

Summary: EPA has no objections to the preferred alternative.

EIS No. 20050085, ERP No. F-FRC-K05060-CA, Stanislaus Rivers Projects, Relicensing of Hydroelectric Projects: Spring Gap-Stanislaus FERC No. 2130; Beardsley/Donnells FERC No. 2005; Tulloch FERC No. 2067; and Donnells-Curtis Transmission Line FERC No. 2118, Tuolumne and Calaveras Counties, CA.

Summary: EPA has no objections to the project as proposed. In response to comments from EPA, FERC clarified and provided additional information on impacts to water and air quality, efforts to involve tribal governments, and evaluation of environmental justice issues.

Dated: April 26, 2005.
Ken Mittelholtz,
Environmental Protection Specialist, Office of Federal Activities.

[FR Doc. 05-8612 Filed 4-28-05; 8:45 am]

BILLING CODE 6560-50-P